DEPARTMENT OF TRANSPORTATION

Federal Aviation Administration

Notice of Intent To Rule on Request To Release Airport Property at the Pearland Regional Airport, Pearland, TX

AGENCY: Federal Aviation Administration (FAA), DOT.

ACTION: Notice of Request to Release Airport Property.

SUMMARY: The FAA proposes to rule and invite public comment on the release of land at the Pearland Regional Airport under the provisions of section 125 of the Wendell H. Ford Aviation Investment Reform Act for the 21st Century (AIR 21).

DATES: Comments must be received on or before February 19, 2008.

ADDRESSES: Comments on this application may be mailed or delivered to the FAA at the following address:

Mr. Mike Nicely, Manager, Federal Aviation Administration, Southwest Region, Airports Division, Texas Airports Development Office, ASW-650, Fort Worth, Texas 76193-0650.

In addition, one copy of any comments submitted to the FAA must be mailed or delivered to Mr. Andy Rivera, Airport Director/Manager, at the following address:

17622 Airfield Lane, Pearland, Texas 77581.

FOR FURTHER INFORMATION CONTACT: Mr. Steven Cooks, Program Manager, Federal Aviation Administration, Texas Airports Development Office, ASW-650, 2601 Meacham Boulevard, Fort Worth, Texas 76193-0650, Telephone: (817) 222-5608, e-mail: Steven.Cooks@faa.gov, fax: (817) 222-5989.

The request to release property may be reviewed in person at this same location.

SUPPLEMENTARY INFORMATION: The FAA invites public comment on the request to release property at the Pearland Regional Airport under the provisions of the AIR 21.

The following is a brief overview of the request:

Clover Acquisition Corporation, the owner of Pearland Regional Airport requests the release of two tracts of airport property. One tract of 0.472 acres of non-aeronautical airport property will be exchanged for 0.472 acres of adjacent private property that lies within the Runway Protection Zone of Runway 14-32. The second tract of 0.894 acres of non-aeronautical airport property will be sold. The land was acquired through a land acquisition grant from the Federal Aviation Administration Airport Improvement Program. Any person may inspect the request in person at the FAA office listed above under FOR FURTHER INFORMATION CONTACT.

In addition, any person may, upon request, inspect the application, notice and other documents relevant to the application in person at the Pearland Regional Airport, telephone number (281) 481-7751.

Issued in Fort Worth, Texas on January 7, 2008.
Kelvin L. Solco,
Manager, Airports Division.

[FR Doc. 08-167 Filed 1-17-08; 8:45 am]

BILLING CODE 4910-13-M